DEPARTMENT OF ENERGY

Federal Energy Regulatory Commission

[Project No. 1894-211]

South Carolina Electric & Gas Company; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: P-1894-211.

c. Date filed: June 28, 2018.

d. Applicant: South Carolina Electric & Gas Company (SCE&G).

e. Name of Project: Parr Hydroelectric Project.

f. Location: The existing project is located on the Broad River, in Newberry and Fairfield Counties, South Carolina. The project includes 162.61 acres of federal lands administered by the U.S. Forest Service.

g. Filed Pursuant to: Federal Power Act 16 U.S.C. 791 (a)-825(r).

h. Applicant Contact: Mr. William Argentieri, P.E., Manager of Civil Engineering, South Carolina Electric & Gas Company, 220 Operation Way, Mail Code A221, Cayce, SC 29033-3701; (803) 217-9162; or email at bargentieri@scana.com.

i. FERC Contact: Monte TerHaar at (202) 502-6035; or monte.terhaar@ferc.gov.

j. This application is not ready for environmental analysis at this time.

k. Cooperating agencies: Federal, state, local, and tribal agencies with jurisdiction and/or special expertise with respect to environmental issues that wish to cooperate in the preparation of the environmental document should follow the instructions for filing such requests described in item m below. Cooperating agencies should note the Commission's policy that agencies that cooperate in the preparation of the environmental document cannot also intervene. See, 94 FERC 61,076 (2001).

l. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

m. Deadline for filing additional study requests and requests for cooperating agency status: August 27, 2018.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-1894-211.

n. Project Description: The project consists of two developments; the 14.88 Megawatt (MW) Parr Shoals Development and the 511.2-MW Fairfield Pumped Storage Development.

The Parr Shoals Development consists of: (1) The 15-mile-long, 4,250-acre Parr Reservoir, at full pond elevation 265.3 feet North American Vertical Datum of 1988 (NAVD 88); (2) the 2,690-foot-long Parr Shoals Dam, which includes a non-overflow section and powerhouse intake section; (3) a powerhouse integral with the dam, with six generating units; and (4) transmission facilities that consist of three 950-foot-long, 13.8-kilovolt lines extending from the hydro station to the non-project Parr sub-station.

The Fairfield Pumped Storage Development consists of: (1) The 6,800-acre Monticello Reservoir (upper reservoir), at normal maximum elevation 424.3 feet NAVD 88, formed by four earthen dams (A, B, C, and D); (2) a 265-foot-long gated intake channel, located between dams B and C; (3) four 800-foot-long surface penstocks bifurcating into eight penstocks; (4) an underground generating station, which houses eight pumped-turbine units; and (5) transmission facilities that consist of three 7,000-foot-long lines extending from the Fairfield switch station to the non-project V.C. Summer switchyard.

The Fairfield Pumped Storage Development is operated to generate during peak demand periods. Generation usually occurs during the day, with the upper reservoir replenished by pumping water at night (non-peak period). The Parr Shoals Development serves as the lower reservoir for the pumped storage project.

o. A copy of the application is available for review at the Commission in the Public Reference Room, or may be viewed on the Commission's website at http://www.ferc.gov using the “eLibrary” link. Enter the docket number, excluding the last three digits in the docket number field, to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary schedule. Revisions to the schedule will be made, as appropriate.

Milestone | Target date
Issue Deficiency Letter (if necessary) | September 2018.
Request Additional Information | September 2018.
Issue Scoping Document 1 for comments | October 2018.
Comments on Scoping Document 1 | December 2018.
Issue Notice of Ready for Environmental Analysis | August 2019.
Filing of recommendations, preliminary terms and conditions, and fishway prescriptions | October 2019.
Commission issues EA or draft EA | February 2020.
Comments on EA or draft EA | April 2020.
Commission Issues Final EA (if necessary) | June 2020.

Final amendments to the application must be filed with the Commission no later than 30 days from the issuance date of the notice of ready for environmental analysis.

Dated: July 11, 2018.
Kimberly D. Bose,
Secretary.

[FR Doc. 2018-15256 Filed 7-16-18; 8:45 am]

BILLING CODE 6717-01-P